DEPARTMENT OF THE INTERIOR

Bureau of Land Management

[NV-030-1040-JH, NV-030-1220-MA; Closure Notice No. NV-030-04-001]

Emergency Closure of Federal Lands, Lyon County, NV

AGENCY: Bureau of Land Management, Interior.

ACTION: Notice of closure in Lyon County, Nevada.

SUMMARY: Notice is hereby given that certain public lands at the west end of Wilson Canyon, along the West Walker River in Lyon County, Nevada, are closed to camping and all motorized vehicles. This closure is necessary in order to prevent further adverse effects to soils, vegetation, water resources, visual resources, wildlife, and wildlife habitat. It will remain in effect until such time as a plan amendment to the Carson City Consolidated Resource Management Plan can be completed to address long-term management of public lands in Wilson Canyon. These lands are in close proximity to private property, a well-traveled State highway, and an area popular with off-highway vehicle enthusiasts. Some resource damage already has taken place and the potential for additional adverse effects occurring as a result of camping and unrestricted off-highway vehicle use in the riparian zone is substantial and significant.

EFFECTIVE DATE: This closure goes into effect November 20, 2003, and will remain in effect until the Manager, Carson City Field Office, determines it is no longer needed.

FOR FURTHER INFORMATION CONTACT: John O. Singlaub, Manager, Carson City Field Office, 5665 Morgan Mill Road, Carson City, Nevada 89701. Telephone (775) 885-6000.

SUPPLEMENTARY INFORMATION: The authorities for the closure and restrictions are 43 CFR 8341.2 and 43 CFR 8364.1. Any person who fails to comply with a closure or restriction order is subject to arrest and fines in accordance with applicable provisions of 18 U.S.C. 3571 and/or imprisonment not to exceed 12 months. This order applies to all forms of camping and motorized vehicle use excluding (1) any emergency or law enforcement vehicle while being used for emergency purposes, and (2) any vehicle whose use is expressly authorized in writing by the Manager, Carson City Field Office.

The public lands affected by the closure order are located north of Nevada Highway 208 at the west end of Wilson Canyon and include certain public lands within:

Mt. Diablo Meridian

T.11N., R.24E.

Sec. 24, N½ NE¼,

T.11N., R.25E.

Sec. 18, Lot 4, SE¼ SW¼ and S½ SE¼

Sec. 19, Lot 1, N½ NE¼ and NE¼ NW¼.

The public lands affected by the restriction order constitute approximately 51 acres.

These lands are depicted on maps posted in the Carson City Field Office and at the area affected by the emergency closure. Copies of these maps also may be obtained from the Field Office.

Dated: October 2, 2003.
John O. Singlaub,
Manager, Carson City Field Office.

[FR Doc. 03-28961 Filed 11-19-03; 8:45 am]

BILLING CODE 4310-HC-P